DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists, for each covered childhood vaccine, the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2015, through April 30, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: May 27, 2015.
James Macrae,
Acting Administrator.

List of Petitions Filed

1. Jorge Perez and Teresa Perez on behalf of J. P., Mount Pleasant, Wisconsin, Court of Federal Claims No: 15-0331V

2. Jennifer Crossing, Macungie, Pennsylvania, Court of Federal Claims No: 15-0337V

3. Holly Snyder, Quakertown, Pennsylvania, Court of Federal Claims No: 15-0338V

4. Adrian Chanderdat, Dallas, Texas, Court of Federal Claims No: 15-0341V

5. Katie Davis on behalf of Mason Gannuscio, Fontana, California, Court of Federal Claims No: 15-0344V

6. Paula Kwon, Concord, Massachusetts, Court of Federal Claims No: 15-0346V

7. Arika Browne, Anchorage, Alaska, Court of Federal Claims No: 15-0349V

8. Daniel Drach, Wheaton, Illinois, Court of Federal Claims No: 15-0350V

9. Wendy A. Adams, Charlotte, North Carolina, Court of Federal Claims No: 15-0352V

10. Rosa Hernandez, Washington, District of Columbia, Court of Federal Claims No: 15-0356V

11. Vera Ivanchuk and Andrey Ivanchuk on behalf of Y. I., Summerville, South Carolina, Court of Federal Claims No: 15-0357V

12. Carmen Ramirez on behalf of Luis Arroyo Ramirez, Rancho Cucamonga, California, Court of Federal Claims No: 15-0361V

13. Elias Maciel and Kelly Vilela Maciel on behalf of B. M., Vienna, Virginia, Court of Federal Claims No: 15-0362V

14. Bradley J. Richardson, Fort Worth, Texas, Court of Federal Claims No: 15-0366V

15. James Parker, Raymore, Missouri, Court of Federal Claims No: 15-0368V

16. Carmen Moreno Lozano, Ventura, California, Court of Federal Claims No: 15-0369V

17. Briana Grappo, Los Angeles, California, Court of Federal Claims No: 15-0372V

18. Jennifer Reid, Thomaston, Georgia, Court of Federal Claims No: 15-0375V

19. Teena Boykin, Tyler, Texas, Court of Federal Claims No: 15-0376V

20. Berna Mallett, Fremont, California, Court of Federal Claims No: 15-0377V

21. Majed Eilan and Shams Eilan on behalf of A. E., Allentown, Pennsylvania, Court of Federal Claims No: 15-0381V

22. Phetsamai Khampo, Seattle, Washington, Court of Federal Claims No: 15-0382V

23. Henry Roder, Santa Ana, California, Court of Federal Claims No: 15-0383V

24. David Kaanoi, Jr., Honolulu, Hawaii, Court of Federal Claims No: 15-0385V

25. Katya Sido, Arlington, Texas, Court of Federal Claims No: 15-0386V

26. Peter Wells, Arlington Heights, Illinois, Court of Federal Claims No: 15-0387V

27. Garth R. Jackson, Seattle, Washington, Court of Federal Claims No: 15-0391V

28. Lara Felker, Bellevue, Washington, Court of Federal Claims No: 15-0392V

29. Danielle Sutley, New Orleans, Louisiana, Court of Federal Claims No: 15-0393V

30. Robert Horner, Roswell, New Mexico, Court of Federal Claims No: 15-0395V

31. Yvonne Hocking, Tempe, Arizona, Court of Federal Claims No: 15-0396V

32. Troy Turner, Los Angeles, California, Court of Federal Claims No: 15-0397V

33. Frenchell Henson, Dallas, Texas, Court of Federal Claims No: 15-0398V

34. Tahlia Spector, M.D., Sylmar, California, Court of Federal Claims No: 15-0401V

35. Dvora Ghitza, Boston, Massachusetts, Court of Federal Claims No: 15-0404V

36. Naomi McMurtry, Bolingbrook, Illinois, Court of Federal Claims No: 15-0405V

37. Marissa Arevalo on behalf of R. M. R., Peoria, Illinois, Court of Federal Claims No: 15-0406V

38. Michael A. Mancesri, Yakima, Washington, Court of Federal Claims No: 15-0412V

39. Marissa Arevalo on behalf of R. M. R., Peoria, Illinois, Court of Federal Claims No: 15-0414V

40. Katelyn Roach, Phoenix, Arizona, Court of Federal Claims No: 15-0422V

41. David Lightbourne, Long Beach, California, Court of Federal Claims No: 15-0423V

42. Snezana Stankovic on behalf of David Stankovic, Bethesda, Maryland, Court of Federal Claims No: 15-0424V

43. Rose M. Porges, Greensboro, North Carolina, Court of Federal Claims No: 15-0427V

44. Jo Ann Dreas, St. Louis, Missouri, Court of Federal Claims No: 15-0428V

45. Sherry C. Johnson, Greensboro, North Carolina, Court of Federal Claims No: 15-0431V

46. Maria Esther Garcia, Delano, California, Court of Federal Claims No: 15-0432V

47. Chris Juday, Kokomo, Indiana, Court of Federal Claims No: 15-0433V

[FR Doc. 2015-13462 Filed 6-2-15; 8:45 am]

BILLING CODE 4165-15-P